DEPARTMENT OF HOMELAND SECURITY

Coast Guard

[CGD 01-04-154]

Notice, Announcement of Public Meeting; Letter of Recommendation, Keyspan LNG Facility Providence, RI

AGENCY: Coast Guard, DHS.

ACTION: Notice of meeting.

SUMMARY: In response to public comments on the proposed Keyspan Liquefied Natural Gas (LNG) facility in Providence, RI, the Coast Guard is co-sponsoring two public hearings. This action will afford the public and the owner or operator additional time and opportunity to provide the Coast Guard with information regarding the proposed Keyspan LNG facility.

DATES: Public meetings will be held on Tuesday, January 11, 2005 and Wednesday, January 12, 2005.

ADDRESSES: Public meetings will be held on Tuesday, January 11, 2005, at the Roger Williams Middle School, 278 Thurbers Avenue, Providence, Rhode Island and on Wednesday, January 12, 2005 at the Gaudet Middle School, 1113 Aquidneck Avenue, Middletown, Rhode Island.

FOR FURTHER INFORMATION CONTACT: Ms. Erin Lamby, Marine Safety Office Providence at (401) 435-2355.

SUPPLEMENTARY INFORMATION:

Request for Comments

In accordance with the requirements in 33 CFR 127.009, the U.S. Coast Guard Captain of the Port (COTP) Providence is preparing a Letter of Recommendation as to the suitability of the Narragansett Bay waterways for liquefied natural gas (LNG) marine traffic. The Letter of Recommendation will be issued in response to a Letter of Intent to operate a LNG facility at the Keyspan facility in Providence, RI. On September 1, 2004, the COTP Providence published a Federal Register Notice seeking comments on the suitability of Narragansett Bay and the Providence River to accommodate LNG marine traffic. (See the Federal Register, Vol. 69, No. 169, Wednesday, September 1, 2004, pages 53454-53455.) A total of 4 public comments were received by the November 1, 2004 deadline, of which only one of them requested that the Coast Guard hold a public meeting. Consequently, the Coast Guard will co-sponsor two public hearings at the time and place described in the Public Meeting paragraph below.

Public Meeting

We intend to hold two public meetings to receive comments on navigation safety issues pertaining to the proposed LNG facility at the Keyspan, Providence, RI site. The times, dates, and locations for this meeting are:

(1) 6:45 p.m., Tuesday, January 11, 2005, at the Roger Williams Middle School, 278 Thurbers Avenue, Providence, Rhode Island.

(2) 6:45 p.m., Wednesday, January 12, 2005 at the Gaudet Middle School, 1113 Aquidneck Avenue, Middletown, Rhode Island.

Additional Information

Additional information about the Keyspan LNG project is available from FERC's Office of External Affairs at 1-866-208-FERC or on the FERC internet Web site (http://www.ferc.gov) using the eLibrary link. Click on the eLibrary link, then click on “General Search” and enter FERC's docket number excluding the last three digits in the Docket Number field (i.e., CP04-36). For assistance, please contact FERC online support at FERCOnlineSupport@ferc.gov or toll free at 1-866-208-3676, or for TTY contact 1-202-502-8659.

Dated: January 3, 2005.
M.E. Landry,
Captain, U.S. Coast Guard, Captain of the Port, Providence.

[FR Doc. 05-531 Filed 1-6-05; 3:17 pm]

BILLING CODE 4910-15-P